DEPARTMENT OF VETERANS AFFAIRS

[OMB Control No. 2900-0073]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before November 2, 2006.

FOR FURTHER INFORMATION CONTACT: Denise McLamb, Initiative Coordination Service (005G1), Department of Veterans Affairs, 810 Vermont Avenue, NW., Washington, DC 20420, (202) 565-8374, FAX (202) 565-7870 or e-mail denise.mclamb@mail.va.gov. Please refer to “OMB Control No. 2900-0073.” Send comments and recommendations concerning any aspect of the information collection to VA's OMB Desk Officer, OMB Human Resources and Housing Branch, New Executive Office Building, Room 10235, Washington, DC 20503 (202) 395-7316. Please refer to “OMB Control No. 2900-0073” in any correspondence.

SUPPLEMENTARY INFORMATION: Title: VA Enrollment Certification, VA Form 22-1999.

OMB Control Number: 2900-0073.

Type of Review: Revision of a currently approved collection.

Abstract: School officials and employers complete VA Form 22-1999 to report and certify a claimant's enrollment in an educational program. The data is used to determine the amount of benefits payable and whether the claimant requested an advanced or accelerated payment.

An agency may not conduct or sponsor, and a person is not required to respond to a collection of information unless it displays a currently valid OMB control number. The Federal Register Notice with a 60-day comment period soliciting comments on this collection of information was published on June 1, 2006 at pages 31262-31263.

Affected Public: Not-for-profit institutions, business or other for-profit, Federal Government, and State, local or tribal government.

Estimated Annual Burden: 158,975 hours.

a. Electronically—8 minutes.

b. Paper copy—10 minutes.

Frequency of Response: On occasion.

Estimated Annual Response: 1,109,129.

a. Electronically—776,390.

b. Paper copy—332,739.

Estimated Number of Respondents: 7,485.

Dated: September 20, 2006.
By direction of the Secretary.
Denise McLamb,
Program Analyst, Initiative Coordination Service.

[FR Doc. E6-16213 Filed 10-2-06; 8:45 am]

BILLING CODE 8320-01-P